ENVIRONMENTAL PROTECTION AGENCY

[ER-FRL-9025-6]

Environmental Impact Statements; Notice of Availability

Responsible Agency: Office of Federal Activities, General Information (202) 564-7146 or http://www2.epa.gov/nepa.

Weekly receipt of Environmental Impact Statements (EISs)

Filed 02/08/2016 Through 02/12/2016

Pursuant to 40 CFR 1506.9.

Notice

Section 309(a) of the Clean Air Act requires that EPA make public its comments on EISs issued by other Federal Agencies. EPA's comment letters on EISs are available at: https://cdxnodengn.epa.gov/cdx-nepa-public/action/eis/search.

EIS No. 20160030, Draft, USFS, MT, Tenmile South Helena Project, Comment Period Ends: 04/05/2016, Contact: Allen Byrd 406-495-3903.

EIS No. 20160031, Final Supplement, BOEM, LA, Gulf of Mexico OCS Oil and Gas Lease Sale 2016 Western Planning Area Lease Sale 248, Review Period Ends: 03/21/2016, Contact: Micelle Nannen 504-731-6682.

EIS No. 20160032, Draft, USFS, ID, Middle Fork Weiser River Landscape Restoration Project, Comment Period Ends: 04/04/2016, Contact: Steve Penny 208-634-0801.

EIS No. 20160033, Draft, NRC, IL, Generic—License Renewal of Nuclear Power Plants Regarding LaSalle County Station, Units 1 and 2, Supplement 57, Comment Period Ends: 04/04/2016, Contact: David Drucker 301-415-6223.

EIS No. 20160034, Second Draft Supplemental, USFS, MT, Rock Creek Mine Project, Comment Period Ends: 04/04/2016, Contact: Michael Huffine 406-293-6211.

EIS No. 20160035, Final, USACE, PR, Cano Martin Pena Ecosystem Restoration Project, Review Period Ends: 03/21/2016, Contact: Jim L. Suggs 904-232-1018.

EIS No. 20160036, Draft, USFS, CO, Weminuche Landscape Grazing Analysis, Comment Period Ends: 04/04/2016, Contact: Cam Hooley 970-884-1414.

EIS No. 20160037, Draft, USFS, WA, Colville National Forest Plan Revision, Comment Period Ends: 05/19/2016, Contact: Amy Dillon 509-684-7211.

EIS No. 20160038, Final, NOAA, LA, PROGRAMMATIC—Deepwater Horizon Oil Spill Final Damage Assessment and Restoration Plan, Review Period Ends: 03/21/2016, Contact: Courtney Groeneveld 301-427-8666.

EIS No. 20160039, Final, USFS, CA, BEH Rangeland Allotments, Review Period Ends: 04/08/2016, Contact: Crispin Holland 209-532-3671 ext. 274.

EIS No. 20160040, Draft Supplement, AFS, OR, Ochoco Summit Trail System, Comment Period Ends: 04/04/2016, Contact: Marcy Anderson 541-416-6463.

Amended Notices

EIS No. 20150333, Draft, NMFS, USFWS, CA, Butte Regional Conservation Plan, Comment Period Ends: 05/16/2016, Contact: Dan Cox 916-414-6593; Revision to FR Notice Published 11/27/2015; Extending Comment Period from 02/16/2016 to 05/16/2016.

Dated: February 16, 2016.
Dawn Roberts,
Management Analyst, NEPA Compliance Division, Office of Federal Activities.

[FR Doc. 2016-03482 Filed 2-18-16; 8:45 am]

BILLING CODE 6560-50-P